DEPARTMENT OF LABOR

Employment and Training Administration

[TA-W-51,570]

Lydall Composite Materials, Covington, TN; Notice of Termination of Investigation

Pursuant to section 221 of the Trade Act of 1974, as amended, an investigation was initiated on April 23, 2003 in response to a petition filed on behalf of workers at Lydall Composite Materials, Covington, Tennessee. Workers at the subject firm produced composite fiber materials.

The investigation revealed that all workers were separated from the subject firm more than one year before the date of the petition. Section 223(b)(1) of the Act specifies that no certification may apply to any worker whose separation occurred more than one year before the date of the petition. Consequently, further investigation in this case would serve no purpose, and the investigation has been terminated.

Signed at Washington, DC, this 12th day of May, 2003.
Linda G. Poole,
Certifying Officer, Division of Trade Adjustment Assistance.

[FR Doc. 03-13407 Filed 5-28-03; 8:45 am]

BILLING CODE 4510-30-P